DEPARTMENT OF COMMERCE

National Oceanic and Atmospheric Administration

[I.D. 112706B]

Endangered and Threatened Species; Take of Anadromous Fish

AGENCY: National Marine Fisheries Service (NMFS), National Oceanic and Atmospheric Administration (NOAA), Commerce.

ACTION: Receipt of an application to renew and to modify a scientific research permit; request for comments.

SUMMARY: Notice is hereby given that NMFS has received an application to renew and modify a permit for scientific research from Hagar Environmental Science (HES) in Richmond, California (1105). The permit would affect federally endangered Central California Coast coho salmon, threatened Central California Coast steelhead, and threatened South-Central California Coast steelhead. This document serves to notify the public of the availability of the permit application for review and comment.

DATES: Written comments on the permit application must be received no later than 5 p.m. Pacific Standard Time on January 3, 2007.

ADDRESSES: Comments submitted by e-mail must be sent to the following address: FRNpermits.SR@noaa.gov. The application and related documents are available for review by appointment, for Permit 1105 Modification 1: Protected Resources Division, NMFS, 777 Sonoma Avenue, Room 315, Santa Rosa, CA 95404 (ph: 707-575-6097, fax: 707-578-3435).

FOR FURTHER INFORMATION CONTACT: Jeffrey Jahn at phone number 707-575-6097, or e-mail: Jeffrey.Jahn@noaa.gov.

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Central California Coast coho salmon (Oncorhynchus kisutch), threatened Central California Coast steelhead (O. mykiss), and threatened South-Central California Coast steelhead (O. mykiss).

Renewal and Modification Request Received

HES requests to renew and modify a 5-year permit (1105) for take of juvenile Central California Coast coho salmon, Central California Coast steelhead, and South-Central California Coast steelhead to assess salmonid population distribution, abundance, and habitat in the following watersheds and coastal lagoons: Pilarcitos Creek in San Mateo County, California; San Lorenzo River, Liddell Creek, Laguna Creek, and Majors Creek in Santa Cruz County, California; Salinas River in Monterey and San Luis Obispo counties, California; and Arroyo Grande Creek in San Luis Obispo County, California. HES requests authorization for an estimated annual non-lethal take of 640 juvenile Central California Coast coho salmon, 4,800 juvenile Central California Coast steelhead, and 1,920 juvenile South-Central California Coast steelhead, with no more than 3 percent unintentional mortality to result from capture (by electrofishing), handling, and release of fish. HES also requests authorization for an estimated annual non-lethal take of 320 juvenile Central California Coast coho salmon, 1,200 juvenile Central California Coast steelhead, and 320 juvenile South-Central California Coast steelhead, with no more than 1 percent unintentional mortality to result from capture (by seine), handling, and release of fish.

Dated: November 29, 2006.
Angela Somma,
Chief, Endangered Species Division, Office of Protected Resources, National Marine Fisheries Service.

[FR Doc. E6-20452 Filed 12-1-06; 8:45 am]

BILLING CODE 3510-22-S